NATIONAL LABOR RELATIONS BOARD

Appointments of Individuals To Serve as Members of Performance Review Boards

5 U.S.C. 4314(c)(4) requires that the appointments of individuals to serve as members of performance review boards be published in the Federal Register. Therefore, in compliance with this requirement, notice is hereby given that the individuals whose names and position titles appear below have been appointed to serve as members of performance review boards in the National Labor Relations Board for the rating year beginning October 1, 2003 and ending September 30, 2004.

Name and Title

Richard L. Ahearn—Regional Director, Region 19.

Frank V. Battle—Deputy Director of Administration.

Henry Breiteneicher—Solicitor.

John F. Colwell—Chief Counsel to Board Member.

Harold J. Datz—Chief Counsel to the Chairman.

John H. Ferguson—Associate General Counsel, Enforcement Litigation.

Terence Flynn—Chief Counsel to Board Member.

Robert A. Giannasi—Chief Administrative Law Judge.

Lester A. Heltzer—Executive Secretary.

John E. Higgins—Deputy General Counsel.

Peter B. Hoffman—Regional Director, Region 34.

Gloria Joseph—Director of Administration.

Barry J. Kearney—Associate General Counsel, Advice.

David B. Parker—Deputy Executive Secretary.

Gary W. Shinners—Chief Counsel to Board Member.

Richard A. Siegel—Associate General Counsel, Operations-Management.

Lafe E. Solomon—Director, Office of Representation Appeals.

Peter D. Winkler—Chief Counsel to Board Member.

Dated: December 6, 2004 in Washington, DC, by direction of the Board.
Lester A. Heltzer,
Executive Secretary.

[FR Doc. 04-28599 Filed 12-29-04; 8:45 am]

BILLING CODE 7545-01-M